DEPARTMENT OF THE INTERIOR

Bureau of Land Management

[UT-070-1610-DP-010J]

Notice of Availability of the Supplement to the Vernal Field Office Draft Resource Management Plan (RMP) and Environmental Impact Statement (EIS) for Non-Wilderness Study Area (WSA) Lands With Wilderness Characteristics

AGENCY: Bureau of Land Management, Interior.

ACTION: Notice of Availability.

SUMMARY: In accordance with the National Environmental Policy Act of 1969 (NEPA, 42 U.S.C. 4321, et seq.) and the Federal Land Policy and Management Act of 1976 (FLPMA, 43 U.S.C. 1701, et seq.), the Bureau of Land Management (BLM) has prepared the Supplement to the Vernal Field Office DRMP/DEIS to augment the identification and analysis of managing non-WSA lands with wilderness characteristics.

DATES: The 90-day public comment period will begin on the date the Environmental Protection Agency (EPA) publishes its Notice of Availability (NOA) in the Federal Register. To assure that public comments will be considered, the BLM must receive written comments on the Supplement to the Vernal Field Office DRMP/DEIS on or before the end of the comment period at the address listed below.

Comments: Comments and information submitted on the Supplement to the Vernal Field Office DRMP/DEIS, including names, e-mail addresses, and street addresses of respondents, will be available for public review and disclosure at the Vernal Field Office address listed below. The BLM will not accept anonymous comments. Before including your address, phone number, e-mail address, or other personal identifying information in your comment, you should be aware that your entire comment—including your personal identifying information—may be made publicly available at any time. While you can ask us in your comment to withhold your personal identifying information from public review, we cannot guarantee that we will be able to do so.

Comments may be submitted by any of the following methods:

• Mail: Bureau of Land Management, Vernal Field Office, 170 South 500 East, Vernal, UT 84078.

• E-mail: UT_Vernal_Comments@blm.gov.

• Fax: (435) 781-4480.

FOR FURTHER INFORMATION CONTACT: Kelly Buckner, RMP Project Manager, Bureau of Land Management, Vernal Field Office, 170 South 500 East, Vernal, UT 84078; telephone (435) 781-4400; e-mail Kelly Buckner@blm.gov. Copies of the Supplement to the Vernal Field Office DRMP/DEIS are available in the Vernal Field Office and on the Internet at http://www.blm.gov/ut/st/en/fo/vernal.html.

Background Information: The planning area includes approximately 1.8 million acres of BLM administered surface lands and 2.1 million acres of federal mineral estate under federal, state, private, and Ute Tribal surface in Duchesne, and Uintah Counties in northeast Utah, and about 3,000 acres in Grand County. The planning area encompasses public lands currently managed under the Book Cliffs and Diamond Mountain RMPs. The decisions of the DRMP/DEIS will only apply to BLM-administered public lands and federal mineral estate. The Vernal Field Office prepared the DRMP/DEIS to reevaluate, with public involvement, existing conditions, resources and uses, and consider the mix of resource allocations and management decisions designed to balance uses and protection of resources pursuant to FLPMA and other applicable laws. The DRMP/DEIS was released for public review January 14, 2005.

Pursuant to FLPMA Sections 201 and 202 (43 U.S.C. 1711, 1712) and the BLM's land use planning handbook (Manual Handbook H-1601-1), BLM has authority to evaluate and manage non-WSA lands with wilderness characteristics through land use planning. These characteristics include the appearance of naturalness, outstanding opportunities for solitude, and outstanding opportunities for primitive and unconfined recreation. The applicable law requires that the BLM consider these lands and resource values in planning, including prescribing measures to manage for their wilderness characteristics. Accordingly, during the planning process, the Vernal Field Office found 25 areas (totaling 277,596 acres), outside of existing WSAs that have wilderness characteristics.

The DRMP/DEIS analyzed five alternatives for the management of public lands in the Vernal Field Office and disclosed the impacts of implementing each alternative to the human environment. To ensure that (1) adequate consideration is given to non-WSA lands with wilderness characteristics, (2) an adequate range of alternatives is considered for these lands, and (3) an adequate analysis is prepared from which to base land use decisions, the Supplement to the Vernal Field Office DRMP/DEIS will prescribe specific actions to manage for the wilderness characteristics of non-WSA lands with wilderness characteristics in a new alternative.

Dated: September 18, 2007.
Selma Sierra,
Utah State Director.

[FR Doc. E7-19706 Filed 10-4-07; 8:45 am]

BILLING CODE 4310-$$-P